DEPARTMENT OF COMMERCE

U.S. Census Bureau

Proposed Information Collection; Comment Request; Geographic Partnership Programs

AGENCY: U.S. Census Bureau.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before December 15, 2008.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument(s) and instructions should be directed to Linda Franz, U.S. Census Bureau, Washington, DC 20233-7400, 301-763-9061 (or via Internet at Linda.M.Franz@census.gov).

SUPPLEMENTARY INFORMATION:

I. Abstract

The mission of the Geography Division within the Census Bureau is to plan, coordinate, and administer all geographic and cartographic activities needed to facilitate Census Bureau statistical programs throughout the United States and its territories. The Geography Division manages programs to continuously update features, boundaries, addresses, and geographic entities in the Master Address File/Topologically Integrated Geographic Encoding and Referencing System (MAF/TIGER) database (MTdb). The Geography Division also conducts research into geographic concepts, methods, and standards needed to facilitate Census Bureau data collection and dissemination programs.

Geographic Partnership Programs (GPPs) will allow designated participants, following Census Bureau guidelines, to review and suggest modifications to addresses and geographic boundaries to maintain the Census Bureau MTdb and to accurately report data from censuses and surveys. Because tribal, state, and local governments have current knowledge of and data about where growth and change are occurring in their jurisdictions, their input into the overall development of the address list for the censuses and surveys makes a vital contribution. Similarly, those governments are in the best position to work with geographic boundaries, and benefit themselves not only when their address list is complete, but also when their data tabulation areas are drawn to be relevant to user needs.

II. Method of Collection

This presubmission notice is for a generic clearance called the GPPs that will cover a number of activities needed to update the MTdb with associated address and geographic information. The information to be collected in these programs in cooperation with tribal, state, and local governments and other partners is essential to the mission of the Census Bureau and directly contributes to the successful outcome of censuses and surveys conducted by the Census Bureau. The generic clearance will allow the Census Bureau to focus its limited resources on actual operational planning, development of procedures, and implementation of programs to update and improve the geographic information maintained in the MTdb.

The Census Bureau will develop guidelines and procedures for tribal, state, and local government submission of geographic and address data and will outline the mutual roles and responsibilities of each party. The list below is not exhaustive of all activities that may be performed under this generic clearance. The Census Bureau will follow the approved procedure when submitting any additional activities not specifically listed here.

A. Local Update of Census Addresses (LUCA)

The purpose of the 2010 Census LUCA program is to ensure that the Census Bureau develops, with the cooperation of tribal, state, and local governments in advance of the 2010 Census, the most accurate address list possible.

The Census Bureau's deadline for submission of 2010 Census LUCA updates from tribal, state, and local governments was May 30, 2008. This schedule permitted the Census Bureau to review and process the submissions in time for a nationwide field check called the Address Canvassing Operation.

B. LUCA Appeals

The procedures for the LUCA Appeals process will be published in a Federal Register Notice. The Census Bureau will provide feedback materials to LUCA participants documenting the disposition of their LUCA submission as determined by the Address Canvassing Operation. Eligible LUCA participating governments may appeal the Census Bureau's determinations regarding the address changes they initially submitted, as well as addresses for which they did not provide changes but that were deleted during Address Canvassing. All appeals must be filed within 30 calendar days of receipt of the feedback materials. To appeal, the eligible participants must provide specified contact information, specific addresses to be appealed, and specified supporting evidence.

Participants submit the appeals to an Office of Management and Budget (OMB)-designated agency that is independent of the Department of Commerce. The Appeals Office issues a final written determination to both the eligible government and the Census Bureau. The Appeals Office will complete all reviews and write all determinations as soon as possible, but no later than the end of March 2010. The decisions of the Appeals Office are final.

C. New Construction Program

The New Construction Program is the final opportunity to add city-style housing unit addresses for newly-built structures closed to the elements by Census Day (April 1, 2010). The full details of the New Construction Program will be announced in a Federal Register Notice. The New Construction program runs from November 2009 to February 2010. This program is offered only to local, tribal, and county governments in areas where the census questionnaires will be delivered by mail (approximately 23,000 entities).

Following the invitation and registration processes, the Census Bureau will send the participants the New Construction materials, which consist of instructions and maps (shapefiles or Portable Document Format (PDF) files). The participants must return their new construction addresses in the format specified by the Census Bureau.

D. Redistricting Data Program

The 2010 Census Redistricting Data Program is established in accordance with the provisions of Title 13 U.S.C. 141(C) and provides the 50 States, the District of Columbia, and the Commonwealth of Puerto Rico the opportunity to specify the small geographic areas for which they wish to receive decennial census population totals for the purpose of reapportionment and redistricting. The law requires that the Census Bureau allow those having responsibility for apportionment or districting of each State be given the opportunity to specify geographic areas for which they wish to receive decennial census population counts. The law also requires that by April 1 of the year following the decennial census the Secretary of Commerce (Secretary) will furnish State officials or their designees with population counts for counties, cities, census blocks, and Congressional districts, legislative districts, and voting districts.

The States will have the opportunity to verify the inclusion of their voting districts and suggested tabulation block boundary features during 2009 and early 2010, to ensure the voting district boundaries that will be used by the Census Bureau are consistent with their submissions.

E. Participant Statistical Areas Program (PSAP) and Tribal Statistical Areas Program (TSAP)

The PSAP and TSAP are parallel geographic programs, developed to give local governments and regional planning agencies (PSAP) and tribal governments (TSAP) the opportunity to review, and update if necessary, statistical geographic areas for use in tabulating and publishing data from the 2010 Census, the American Community Survey, and other surveys. The program will be available to tribal and local governments for all States, the District of Columbia, and Puerto Rico. The participants review and update census tracts, block groups, census designated places, census county divisions, and tribal areas and submit digital files (or, optionally, updated paper maps in the case of TSAP) back to the Census Bureau. The Census Bureau inserts the PSAP and TSAP areas into the MTdb.

F. Traffic Analysis Zones (TAZ) Program

The Census Bureau and the Federal Highway Administration (FHWA) identify and invite Metropolitan Planning Organizations (MPO) and/or State Departments of Transportation (DOTs) to be 2010 TAZ Program participants. TAZs are geographic areas that divide planning regions into relatively similar areas of land use, land activity, and commuter travel. TAZs are used to tabulate and present data as part of the Census Transportation Planning Products (CTPP), a special tabulation of American Community Survey data produced under contract with FHWA. The participants review and update the TAZs within their area of interest and submit the updated digital shapefiles back to the Census Bureau. The Census Bureau evaluates the submitted shapefiles and inserts the TAZs into the MTdb.

G. School District Review Program (SDRP)

The Census Bureau conducts the SDRP every two years under contract from the National Center for Education Statistics (NCES) of the U.S. Department of Education. The Census Bureau invites state education officials to be participants in the review and update of its national inventory of school district boundaries and district information. State education officials collaborate with local superintendents on the response. The participants review and provide updates and corrections to the elementary, secondary, and unified school district names and Federal Local Education Agency (LEA) identification numbers, school district boundaries, and the grade ranges for which a school district is financially responsible. The participants submit updated digital files back to the Census Bureau.

The Census Bureau uses the updated school district information along with the most current Census population and income data, current population estimates, and tabulations of administrative records data, to form the Census Bureau's estimates of the number of children aged 5 through 17 in low-income families for each school district. These estimates of the number of children in low-income families residing within each school district are the basis of the funding allocation for each school district under Title I of the Elementary and Secondary Education Act as amended by the No Child Left Behind Act of 2001, Public Law (Pub. L.) 107-110.

III. Data

OMB Control Number: 0607-0795.

Form Number: None.

Type of Review: Regular submission.

Affected Public: State, local, and tribal governments.

Estimated Number of Respondents: 19,883.

Estimated Time per Response: 309 hours.

Estimated Total Annual Burden Hours: 3,915,478.

Estimated Total Annual Cost: $0.

Respondent's Obligation: Voluntary.

Legal Authority: Title 13 U.S.C. Sections 141 and 193.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: October 8, 2008.
Gwellnar Banks,
Management Analyst, Office of the Chief Information Officer.

[FR Doc. E8-24322 Filed 10-10-08; 8:45 am]

BILLING CODE 3510-07-P